DEPARTMENT OF HEALTH AND HUMAN SERVICES

National Institutes of Health

Center for Scientific Review; Amended Notice of Meeting

Notice is hereby given of a change in the meeting of the Social Sciences and Population Studies B Study Section, February 28, 2014, 08:00 a.m. to February 28, 2014, 05:00 p.m., Renaissance Long Beach Hotel, 111 East Ocean Blvd., Long Beach, CA, 90802 which was published in the Federal Register on February 18, 2014, 79 FR 9243.

The meeting will be held at the Courtyard Long Beach Downtown, 500 East 1st Street, Long Beach, CA 90802. The meeting date and time remain the same. The meeting is closed to the public.

Dated: February 24, 2014.
Melanie J. Gray,
Program Analyst, Office of Federal Advisory Committee Policy.

[FR Doc. 2014-04363 Filed 2-27-14; 8:45 am]

BILLING CODE 4140-01-P